DEPARTMENT OF LABOR

Employment and Training Administration

[TA-W-55,761]

Technicon Engineering Leased Workers at Brown & Williamson Tobacco Corporation, Currently Known as R.J. Reynolds Tobacco Corporation, an Operating Subsidiary of Reynolds American, Inc., Macon, GA; Amended Certification Regarding Eligibility To Apply for Worker Adjustment Assistance

In accordance with Section 223 of the Trade Act of 1974 (19 U.S.C. 2273), as amended, the Department of Labor issued a Certification of Eligibility to Apply for Worker Adjustment Assistance on October 28, 2004, applicable to workers of Technicon Engineering employed at Brown & Williamson Tobacco Corporation, Macon, Georgia. The notice will be published soon in the Federal Register.

At the request of the State agency, the Department reviewed the certification for workers of the subject firm. The subject firm workers were leased workers providing research and development, and training support services at the Macon, Georgia facility of Brown & Williamson Tobacco Corporation which produces cigarettes.

New information provided by the company shows that Brown & Williamson Tobacco Corporation is currently known as R.J. Reynolds Tobacco Company, an operating subsidiary of Reynolds American, Inc. as of July 30, 2004. Information also shows that workers separated from employment at the subject firm had their wages reported under a separate unemployment insurance (UI) tax account for R.J. Reynolds Tobacco Company.

Accordingly, the Department is amending the certification to properly reflect this matter.

The intent of the Department's certification is to include all workers of Technicon Engineering who were leased at Brown & Williamson Tobacco Corporation, Macon, Georgia, were adversely affected by increased imports.

The amended notice applicable to TA-W-55,761 is hereby issued as follows:

Workers employed by Technicon Engineering, working at Brown & Williamson Tobacco Corporation, currently known as R.J. Reynolds Tobacco Company, an operating subsidiary of Reynolds American, Inc., Macon, Georgia, who became totally or partially separated from employment on or after September 24, 2003, through October 28, 2006, are eligible to apply for adjustment assistance under Section 223 of the Trade Act of 1974.

Signed in Washington, DC this 16th day of November 2004.
Richard Church,
Certifying Officer, Division of Trade Adjustment Assistance.

[FR Doc. E4-3522 Filed 12-6-04; 8:45 am]

BILLING CODE 4510-30-P